AGENCY FOR INTERNATIONAL DEVELOPMENT

Senior Executive Service: Membership of Performance Review Board

ACTION: Notice.

SUMMARY: The following persons are members of the 2007 Senior Executive Service Performance Review Board: Gloria Steele, Chair; Franklin Moore; James Painter; Max Hilaire.

FOR FURTHER INFORMATION CONTACT: Darren Shanks, 202-712-5685.

Dated: October 16, 2007.
Frank McDonough,
Chief, Employee and Labor Relations Division.

[FR Doc. E7-20810 Filed 10-22-07; 8:45 am]

BILLING CODE 6116-01-P